ENVIRONMENTAL PROTECTION AGENCY

[OIG-2002-0001; FRL-7410-4]

Agency Information Collection Activities; Submission of EPA ICR No. 2094.01 to OMB for Review and Approval; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Survey of Air Quality Issues After September 11, 2001 (EPA ICR No. 2094.01) The ICR, which is abstracted below, describes the nature of the information collection and its estimated burden and cost.

DATES: Additional comments may be submitted on or before December 19, 2002.

ADDRESSES: Follow the detailed instructions in the SUPPLEMENTARY INFORMATION section.

FOR FURTHER INFORMATION CONTACT: Sarah Fabirkiewicz, Office of Program Evaluation, 2460T, Environmental Protection Agency, 1200 Pennsylvania Ave., NW., Washington, DC 20460; telephone number: 202-566-2717; fax number: 202-566-0837; e-mail address: fabirkiewicz.sarah@epa.gov.

SUPPLEMENTARY INFORMATION: EPA has submitted the following ICR to OMB for review and approval according to the procedures prescribed in 5 CFR 1320.12. EPA was granted a waiver from the 60 day public comment period for a proposed ICR.

EPA has established a public docket for this ICR under Docket ID No. OIG-2002-0001, which is available for public viewing at the Office of Environmental Information Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information Docket is (202) 566-1752). An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice, and according to the following detailed instructions: (1) Submit your comments to EPA online using EDOCKET (our preferred method), by e-mail to: oei.docket@epa.gov, or by mail to: EPA Docket Center, Environmental Protection Agency, Mailcode: 28221T, 1200 Pennsylvania Ave., NW., Washington, DC 20460, and (2) Mail your comments to OMB at: Office of Information and Regulatory Affairs, Office of Management and Budget (OMB), Attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov./edocket.

Title: Survey of Air Quality Issues After September 11, 2001 (EPA ICR Number 2094.01 ). This is a request for a new collection.

Abstract: The purpose of this ICR is to obtain information, through use of a public survey, about the impact of government communications regarding air quality concerns associated with the collapse of the World Trade Center towers on September 11, 2001. This ICR represents one component of a larger evaluation of EPA's response to air quality concerns associated with the collapse of the World Trade Center towers. The survey will be distributed to randomly selected individuals residing in the five boroughs of New York City. Persons residing in New York City are hereafter referred to as “the public.” Data generated from the questionnaire will provide information regarding the public's perception of the adequacy of the information it received about air quality, the public's interpretation of the air quality information it received, and actions taken by the public based on the air quality information received. Findings from the questionnaire in these three areas can be used to improve the way information about air quality is disseminated during times of future emergency and/or disaster. Findings will be useful not only to EPA, but to any agency seeking to improve the effectiveness of its emergency and/or disaster mitigation, response, and recovery activities. In some instances, it may be possible to use the data to inform future emergency and/or disaster response techniques in other cities.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 15 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Randomly selected individuals residing in the five boroughs of New York City.

Estimated Number of Respondents: 1067.

Frequency of Response: Once.

Estimated Total Annual Hour Burden: 266.75 hours.

Estimated Total Annual Cost: $5,908.51 includes $0 annualized capital or O&M costs.

Changes in the Estimates: There is no change of hours in the total estimated burden currently identified in the OMB Inventory of Approved ICR Burdens.

Dated: November 12, 2002.
Oscar Morales,
Director, Collection Strategies Division.

[FR Doc. 02-29337 Filed 11-18-02; 8:45 am]

BILLING CODE 6560-50-P